FEDERAL COMMUNICATIONS COMMISSION

[FR ID 58790]

Deletion of Item From November 18, Open Meeting

The following item has been adopted by the Commission and deleted from the list of items scheduled for consideration at the Thursday, November 18 2021, Open Meeting. This item was previously listed in the Commission's Notice of Wednesday, November 10, 2021.

3 | MEDIA | Title: Updating FM Radio Directional Antenna Verification (MB Docket No. 21-422).
|  | Summary: The Commission will consider a Notice of Proposed Rulemaking to allow applicants proposing directional FM antennas the option of verifying the directional antenna pattern through computer modeling.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Dated: November 18, 2021.
Marlene Dortch,
Secretary.

[FR Doc. 2021-25591 Filed 11-22-21; 8:45 am]

BILLING CODE 6712-01-P